ENVIRONMENTAL PROTECTION AGENCY

[EPA-HQ-OW-2004-0027, FRL-8548-5]

Agency Information Collection Activities; Proposed Collection; Comment Request; Information Collection Request for Cooling Water Intake Structures New Facility Final Rule (Renewal); EPA ICR No. 1973.04, OMB Control No. 2040-0241

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on June 30, 2008. Before submitting the ICR to OMB for review and approval, EPA is soliciting comments on specific aspects of the proposed information collection as described below.

DATES: Comments must be submitted on or before May 27, 2008.

ADDRESSES: Submit your comments, identified by Docket ID No. EPA-HQ-OW-2004-0027, by one of the following methods:

• http://www.regulations.gov: Follow the on-line instructions for submitting comments.

• E-mail: owdocket@epa.gov.

• Mail: Water Docket, Environmental Protection Agency, Mailcode: #2822T, 1200 Pennsylvania Ave., NW., Washington, DC 20460.

• Hand Delivery: EPA Docket Center (EPA/DC), EPA West, Room 3334, 1301 Constitution Ave., NW., Washington, DC. Such deliveries are only accepted during the Docket's normal hours of operation, and special arrangements should be made for deliveries of boxed information.

Instructions: Direct your comments to Docket ID No. EPA-HQ-OW-2004-0027. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Janelle Christian, Water Permits Division, Office of Wastewater Management, Mail Code: 4203M, Environmental Protection Agency, 1200 Pennsylvania Ave., NW., Washington, DC 20460; telephone number: 202-564-9954; fax number: 202-564-9541; e-mail address: christian.janelle@epa.gov.

SUPPLEMENTARY INFORMATION:

How Can I Access the Docket and/or Submit Comments?

EPA has established a public docket for this ICR under Docket ID No. EPA-HQ-OW-2004-0027, which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are new facilities that are point sources (i.e., subject to an NPDES permit) that use or propose to use a cooling water intake structure (CWIS), have at least one cooling water intake structure that uses at least 25 percent (measured on an average monthly basis) of the water withdrawn for cooling purposes, withdraw the water from surface waters, and have a design intake flow greater than two million gallons per day (MGD). Generally, facilities that meet these criteria fall into two major groups: New power producing facilities and new manufacturing facilities. Power producers affected by the final rule are likely to be both utility and nonutility power producers since they typically have large cooling water requirements. EPA identified four categories of manufacturing facilities that tend to require large amounts of cooling water: paper and allied products, chemical and allied products, petroleum and coal products, and primary metals. However, the New Facility Rule is not limited to manufacturers in these sectors; any new manufacturer that meets the criteria above is subject to the rule.

Title: Information Collection Request for Cooling Water Intake Structures New Facility Final Rule (Renewal).

ICR numbers: EPA ICR No. 1973.04, OMB Control No. 2040-0241.

ICR status: This ICR is currently scheduled to expire on June 30, 2008. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The section 316(b) New Facility Rule requires the collection of information from new facilities that use a CWIS and meet the other eligibility requirements. Section 316(b) of the CWA requires that any standard established under section 301 or 306 of the CWA and applicable to a point source must require that the location, design, construction and capacity of CWISs at that facility reflect the best technology available (BTA) for minimizing adverse environmental impact. See 66 FR 65256. Such impact occurs as a result of impingement (where fish and other aquatic life are trapped on technologies at the entrance to cooling water intake structures) and entrainment (where aquatic organisms, eggs, and larvae are taken into the cooling system, passed through the heat exchanger, and then pumped back out with the discharge from the facility). The rule establishes standard requirements applicable to the location, design, construction, and capacity of cooling water intake structures at new facilities. These requirements seek to minimize the adverse environmental impact associated with the use of CWISs.

Burden Statement: The annual average reporting and record keeping burden for the collection of information by facilities responding to the section 316(b) New Facility Rule is estimated to be 1,885 hours per respondent (i.e., an annual average of 113,084 hours of burden divided among an anticipated annual average of 60 facilities). The State reporting and record keeping burden for the review, oversight, and administration of the rule is estimated to average 111 hours per respondent (i.e., an annual average of 5,125 hours of burden divided among an anticipated 46 States on average per year). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 68 facilities and 46 States and Territories.

Frequency of response: Annual reports and application every 5 years.

Estimated total average number of responses for each respondent: 5.3 for facilities (317 annual average responses for an average of 60 facility respondents) and 6.1 for States and Territories (280 annual average responses for an average of 46 State respondents).

Estimated total annual burden hours: 118,209 (113,084 for facilities and 5,125 for States and Territories).

Estimated total annual costs: $8.5 million per year. This includes an estimated burden cost of $6.7 and an estimated cost of $1.8 for capital investment or maintenance and operational costs.

Are There Changes in the Estimates From the Last Approval?

There is an increase of 41,941 hours in the total estimated respondent burden compared with that identified in the ICR currently approved by OMB. This increase is due to the addition of the newly built facilities, as well as the continued performance of annual activities by facilities that received their permit during the previous ICR approval periods. In addition, this ICR includes additional repermitting burden and costs which were not in the currently approved ICR (EPA ICR Number: 1973.03) because more facilities are entering the renewal phase of their permits.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: March 20, 2008.
James A. Hanlon,
Director, Office of Wastewater Management.

[FR Doc. E8-6408 Filed 3-27-08; 8:45 am]

BILLING CODE 6560-50-P